DEPARTMENT OF TRANSPORTATION

Federal Highway Administration

Environmental Impact Statement; South Carolina

AGENCY: Federal Highway Administration (FHWA), DOT.

ACTION: Notice of intent.

SUMMARY: The FHWA is issuing this notice to advise the public that a Tiered environmental impact statement will be prepared for the proposed Interstate 73 (I-73) highway project in eastern South Carolina.

FOR FURTHER INFORMATION CONTACT: Mr. Patrick L. Tyndall, Environmental Program Manager, Federal Highway Administration, 1835 Assembly Street, Suite 1270, Columbia, South Carolina 29201; Telephone (803) 765-5411; email: Patrick.tyndall@fhwa.dot.gov.

SUPPLEMENTARY INFORMATION: The FHWA, in cooperation with the South Carolina Department of Transportation (SCDOT), will prepare a Tier 1 environmental impact statement (EIS) on the proposed I-73 project. The proposed interstate highway is planned to connect to I-73 in North Carolina and would enter South Carolina near Marlboro County. The portion of the roadway to be evaluated in this proposed Tier 1 EIS is the portion from the South Carolina/North Carolina state line to the vicinity of I-95, a distance of approximately 35 miles. The proposed study area includes Marlboro and Dillon Counties.

Improvements to the corridor are considered necessary to improve national and regional connectivity to the Conway/Myrtle Beach area of South Carolina by providing a direct link to North Carolina. This link will enhance economic opportunities and tourism in South Carolina. The proposed project would fulfill part of the congressional intent, as originally proposed in the Intermodal Surface Transportation Efficiency Act (ISTEA) of 1991 and confirmed in the Transportation Equity Act (TEA-21) of 1998. Alternatives to be evaluated include the no action alternative, the upgrade of existing roads, construction on new alignment, and combinations of upgrades and new alignments.

The FHWA and SCDOT are seeking input as a part of the scoping process to assist in identifying issues relative to this project. Letters describing the proposed action and soliciting comments will be sent to appropriate Federal, State, and local agencies, and to private organizations and citizens who have previously expressed or are known to have interest in this proposal. An interagency coordination process will begin soon, with the invitations to Cooperating Agencies and a formal scoping meeting to occur in the fall of 2004. A public involvement plan is being developed for this project and will include a variety of opportunities for interested parties to be involved in the project. A public scoping meeting will be held in the fall of 2004 in northeastern South Carolina. This meeting will be well publicized in advance, giving the location and time the meeting. Additional coordination with the public, public interest groups, elected officials, and state and federal agencies will be performed between the Fall of 2004 and Summer of 2006. The draft Tier 1 EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Research Planning and Construction. The regulation implementing Executive Order 12372 regarding intergovernmental consultation on Federal programs and activities apply to this program.)

Issued on: August 3, 2004.
Robert D. Thomas,
Acting Division Administrator, Federal Highway Administration, Columbia, South Carolina.

[FR Doc. 04-18114 Filed 8-6-04; 8:45 am]

BILLING CODE 4910-22-P